DEPARTMENT OF HEALTH AND HUMAN SERVICES

Administration for Children and Families

Submission for OMB Review; 45 CFR 303.7—Provision of Services in Intergovernmental IV-D; Federally Approved Forms (OMB #0970-0085)

AGENCY: Office of Child Support Enforcement, Administration for Children and Families, HHS.

ACTION: Request for public comment.

SUMMARY: The Office of Child Support Enforcement is requesting a 3-year extension of the Provision of Services in Intergovernmental IV-D; Federally Approved Forms (OMB #0970-0085, expiration December 31, 2022). There are no changes requested to these forms.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: Public Law 113-183, the Preventing Sex Trafficking and Strengthening Families Act, amends section 466(f) of the Social Security Act requiring all states to enact any amendments to the Uniform Interstate Family Support Act “officially adopted as of September 30, 2008, by the National Conference of Commissioners on Uniform State Laws” (referred to as UIFSA 2008). Section 311(b) of UIFSA requires states to use forms mandated by federal law. 45 CFR 303.7(a)(4) also requires child support programs to use federally approved forms in intergovernmental IV-D cases unless a country has provided alternative forms.

Respondents: State agencies administering a child support program under title IV-D of the Social Security Act.

Annual Burden Estimates
Instrument | Total number of respondents | Total number of responses per respondent | Average burden hours per response | Annual burden hours
Transmittal #1—Initial Request | 54 | 16,048 | 0.17 | 147,321
Transmittal #1—Initial Request Acknowledgement | 54 | 16,048 | 0.05 | 43,330
Transmittal #2—Subsequent Action | 54 | 12,036 | 0.08 | 51,996
Transmittal #3—Request for Assistance/Discovery | 54 | 2,407 | 0.08 | 10,398
Uniform Support Petition | 54 | 6,419 | 0.05 | 17,331
General Testimony | 54 | 6,419 | 0.33 | 114,387
Declaration in Support of Establishing Parentage | 54 | 2,407 | 0.15 | 19,497
Child Support Locate Request | 54 | 160 | 0.05 | 432
Notice of Determination of Controlling Order | 54 | 2 | 0.25 | 27
Letter of Transmittal Requesting Registration | 54 | 9,629 | 0.08 | 41,597
Personal Information Form For UIFSA § 311 | 54 | 6,419 | 0.05 | 17,331
Child Support Agency Confidential Information Form | 54 | 19,258 | 0.05 | 51,997
Request for Change of Support Payment Location Pursuant to UIFSA 319(b) | 54 | 80 | 0.05 | 216

Estimated Total Annual Burden Hours: 515,860.

Authority: 45 CFR 303.7.

Mary B. Jones,
ACF/OPRE Certifying Officer.

[FR Doc. 2022-21041 Filed 9-28-22; 8:45 am]

BILLING CODE 4184-41-P